DEPARTMENT OF TRANSPORTATION

Federal Highway Administration

Notice of Final Federal Agency Actions on OR 62: I-5 to Dutton Road (Medford) Project: Jackson County, OR

AGENCY: Federal Highway Administration (FHWA), Department of Transportation (DOT).

ACTION: Notice of limitations on claims for judicial review of actions by FHWA and other Federal agencies.

SUMMARY: This notice announces final environmental actions taken by the FHWA, National Marine Fisheries Service (NMFS), United States Fish and Wildlife Service (USF&WS), and other Federal agencies that are final within the meaning of 23 U.S.C. 139(l)(1). The actions relate to a proposed highway project, OR 62: I-5 to Dutton Road (Medford) in Jackson County, Oregon. This action grants approval for the project.

DATES: By this notice, the FHWA is advising the public of final agency actions subject to 23 U.S.C. 139(l)(1). A claim seeking judicial review of the Federal agency actions on the highway project will be barred unless the claim is filed on or before September 30, 2013. If the Federal law that authorizes judicial review of a claim provides a time period of less than 150 days for filing such claim, then that shorter time period still applies.

FOR FURTHER INFORMATION CONTACT: For FHWA: Michelle Eraut, Program Development Team Leader, Federal Highway Administration, 530 Center Street NE., Suite 420, Salem, Oregon 97301, Telephone: (503) 316-2559. For NMFS: Marc Liverman, National Marine Fisheries Service, 1201 Lloyd Boulevard, Suite 1100, Portland, Oregon 97232, Telephone: (503) 231-2336. For US&FWS: Joe Zisa, United States Fish and Wildlife Service, 2600 SE 98th Avenue Suite 100, Portland, OR 97266, Telephone: (503) 231-6179. The OR62: I-5 to Dutton Road Environmental Impact Statement (EIS) is available upon written request from the Federal Highway Administration at the address shown above. Comments or questions concerning this proposed action and the OR 62: I-5 to Dutton Road (Medford) should be directed to the FHWA at the address provided above.

SUPPLEMENTARY INFORMATION: Notice is hereby given that the FHWA, has taken final agency action subject to 23 U.S.C. 139 (l)(1) by issuing approval for the following highway project in the State of Oregon: OR62: I-5 to Dutton Road (Medford). The project will build a 7.5 mile, four-lane, access controlled expressway to serve as a bypass of existing OR 62 from Interstate 5/OR 62 Interchange in Medford to approximately Dutton Road north of White City in Jackson County, Oregon. The project includes the bypass, four interchanges, and changes to local streets and roads to accommodate the bypass. The actions by the Federal agencies and the laws under which such actions were taken are described in the Final Environmental Impact Statement (FEIS) and Record of Decision (ROD) for the project, approved on April 22, 2013. The FEIS, ROD and Biological Opinions issued by NMFS and USF&WS are available by contacting the FHWA at the address provided above. The FEIS, ROD and Biological Opinions issued by NMFS and USF&WS can also be viewed and downloaded from the project Web site at: http://www.oregon.gov/ODOT/HWY/REGION3/pages/hwy62_index.aspx. This notice applies to all Federal agency decisions as of the issuance date of this notice and all laws under which such actions were taken, including but not limited to:

1. General: National Environmental Policy Act (NEPA) [42 U.S.C 4321-4347]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; Section 6(f) of the Land and Water Conservation Fund Act (LWCF) [16 U.S.C. 460l-4-460l-11.]; Landscaping and Scenic Enhancement (Wildflowers) [23 U.S.C. 319].

4. Wildlife: Section 7 of the Endangered Species Act [16 U.S.C. 1531-1544]; Fish and Wildlife Coordination Act [16 U.S.C. 661-667 (e)]; Migratory Bird Treaty Act [16 U.S.C. 703-712].

5. Historic and Cultural Resources: Section 106 of the National Historic Preservation Act of 1966, as amended [16 U.S.C. 470(f) et seq.]; Archeological Resources Protection Act of 1977 [16 U.S.C. 470aa-mm]; Archeological and Historic Preservation Act [16 U.S.C. 469-469(c)].

6. Social and Economic: Title VI of the Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1376]; Safe Drinking Water Act (SDWA) [42 U.S.C. 300(f)-300(j-26)]; Emergency Wetlands Resources Act, [16 U.S.C. 3921, 3931]; Wetlands Mitigation [23 U.S.C. 103(b)(6)(M) and 133 (b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites, E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued On: April 22, 2013.
Phillip A. Ditzler,
Division Administrator, Salem, Oregon.

[FR Doc. 2013-10004 Filed 5-2-13; 8:45 am]

BILLING CODE 4910-22-P